SECURITIES AND EXCHANGE COMMISSION

Sunshine Act Meeting

Notice is hereby given, pursuant to the provisions of the Government in the Sunshine Act, Public Law 94-409, that the Securities and Exchange Commission will hold an open meeting on Thursday, October 13, 2016 at 10 a.m., in the Auditorium, Room L-002.

The subject matters of the open meeting will be:

• The Commission will consider whether to adopt new rules and forms and amendments to certain rules and forms to modernize the reporting of information by registered investment companies.

• The Commission will consider whether to adopt a new rule and amendments to certain rules and forms that would provide for liquidity risk management programs and related disclosures for open-end management investment companies.

At times, changes in Commission priorities require alterations in the scheduling of meeting items.

For further information and to ascertain what, if any, matters have been added, deleted, or postponed, please contact Brent J. Fields in the Office of the Secretary at (202) 551-5400.

Dated: October 6, 2016.
Brent J. Fields,
Secretary.

[FR Doc. 2016-24731 Filed 10-7-16; 11:15 am]

BILLING CODE 8011-01-P